DEPARTMENT OF LABOR

Employment and Training Administration

TA-W-65,120; TA-W-65,120A

Santee Print Works, Sumter, SC; Santee Print Works, New York, NY; Amended Certification Regarding Eligibility To Apply for Worker Adjustment Assistance and Alternative Trade Adjustment Assistance

In accordance with Section 223 of the Trade Act of 1974 (19 U.S.C. 2273) the Department Labor issued a Certification of Eligibility to Apply for Worker Adjustment Assistance and Alternative Trade Adjustment Assistance on March 27, 2009, applicable to workers of Santee Print Works, Sumter, South Carolina. The notice was published in the Federal Register on April 7, 2009 (74 FR 15756).

At the request of the State agency and company official, the Department reviewed the certification for workers of the subject firm. The workers are engaged in the production of finished fabric.

New findings show that the New York, New York location of Santee Print Works also experienced an employment decline during the relevant period. Workers at the New York, New York facility provide sales and accounting functions directly supporting and sufficiently under the control of the Sumter, South Carolina production facility of the subject firm.

Accordingly, the Department is amending the certification to cover workers at the New York, New York location of Santee Print Works.

The intent of the Department's certification is to include all workers of Santee Print Works who were adversely affected by increased imports of finished fabric.

The amended notice applicable to TA-W-65,120 is hereby issued as follows:

All workers of Santee Print Works, Sumter, South Carolina (TA-W-65,120), and Santee Print Works, New York, New York (TA-W-65,120A), who became totally or partially separated from employment on or after February 3, 2008, through March 27, 2011, are eligible to apply for adjustment assistance under Section 223 of the Trade Act of 1974, and are also eligible to apply for alternative trade adjustment assistance under Section 246 of the Trade Act of 1974.

Signed at Washington DC, this 26th day of June 2009.
Elliott S. Kushner,
Certifying Officer, Division of Trade Adjustment Assistance.

[FR Doc. E9-16628 Filed 7-13-09; 8:45 am]

BILLING CODE 4510-FN-P